DEPARTMENT OF HOMELAND SECURITY

Transportation Security Administration

Extension Agency Information Collection Activity Under OMB Review: Airport Security

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on February 2, 2005, 70 FR 5456.

DATES: Send your comments by August 1, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Airport Security.

Type of Request: Extension of a currently approved collection.

OMB Control Number: 1652-0002.

Forms(s): NA.

Affected Public: Airport operators.

Abstract: Part 1542 of 49 CFR requires affected airport operators to develop and implement security programs, subject to TSA's approval. This collection of information allows TSA to review, approve, and monitor the security program of each affected airport operator to ensure compliance with part 1542. This collection facilitates protection of persons and property in air transportation against acts of terrorism, ensures that passenger screening procedures are effective, and ensures that information is available to comply with Congressional reporting requirements.

Number of Respondents: 445.

Estimated Annual Burden Hours: An estimated 509,203 hours annually.

Issued in Arlington, Virginia, on June 27, 2005.
Lisa S. Dean,
Privacy Officer.

[FR Doc. 05-13037 Filed 6-30-05; 8:45 am]

BILLING CODE 4910-62-P